DEPARTMENT OF HOMELAND SECURITY

Coast Guard

33 CFR Part 117

[Docket No. USCG-2018-0131]

Drawbridge Operation Regulation; Youngs Bay and Lewis and Clark River, Astoria, OR

AGENCY: Coast Guard, DHS.

ACTION: Notice of temporary deviation from regulations; request for comments.

SUMMARY: The Coast Guard has issued a temporary deviation from the operating schedule that governs three bridges at Astoria, OR, including the US101 (Youngs Bay) highway bridge, across Youngs Bay, the Oregon State (Old Youngs Bay) highway bridge, across Youngs Bay foot of Fifth Street, and the Oregon State (Lewis and Clark River) highway bridge, across Lewis and Clark River. This deviation will test a change to the drawbridge operation schedule to determine whether a permanent change to the schedule is appropriate. This deviation will allow the bridge to open during weekends and nighttime hours after receiving a 2 hour advance notice.

DATES: This deviation is effective from 5 p.m. on March 16, 2018 to 7 a.m. on August 10, 2018.

Comments and related material must reach the Coast Guard on or before August 23, 2018.

ADDRESSES: You may submit comments identified by docket number USCG-2018-0131 using Federal eRulemaking Portal at http://www.regulations.gov.

See the “Public Participation and Request for Comments” portion of the SUPPLEMENTARY INFORMATION section below for instructions on submitting comments.

FOR FURTHER INFORMATION CONTACT: If you have questions on this temporary deviation, call or email Mr. Steven Fischer, Bridge Chief Administrator, Thirteenth Coast Guard District; telephone 206-220-7282, email d13-pf-d13bridges@uscg.mil.

SUPPLEMENTARY INFORMATION:

I. Background, Purpose and Legal Basis

Due to infrequent drawbridge opening requests between Friday evenings through Monday early mornings, Oregon Department of Transportation (ODOT) (bridge owner), has requested to open the three highway bridges within Youngs Bay and Lewis and Clark River with 2 hours advance notice. The Youngs Bay highway bridge, Old Youngs Bay highway bridge and the Lewis and Clark River highway bridge are within one mile of each other, and currently open on signal for the passage of vessels with one half-hour notice by marine radio, telephone, or other suitable means. These three bridges are operated by the Lewis and Clark River highway bridge operator. The subject bridges operate per 33 CFR 117.899.

Vessels operating on Youngs Bay and the Lewis and Clark River range from small recreational vessels, sailboats, tribal fishing boats and small commercial fishing vessels. No navigational impacts are expected due to few vessels operating on these waterways at the stated hours. Also during roadway maintenance in 2016 and 2017, we approved deviations for the three subject bridges allowing these bridges to open on a three hour notice. No complaints or opening issues were identified at all hours of the day. Vessels able to pass through the subject bridges with the draw in the closed-to-navigation position may do so at any time.

This deviation authorizes ODOT to open the Youngs Bay highway bridge, the Old Youngs Bay highway bridge and the Lewis and Clark River highway bridge, with a two hour advance notice on weekends from 5 p.m. on Friday to 7 a.m. on Monday, including all Federal holidays but Columbus Day, starting 5 p.m. on March 16, 2018 through 7 a.m. on August 10, 2018. The Youngs Bay highway bridge provides a vertical clearance approximately 37 feet above mean high water when in the closed-to-navigation position. The Old Youngs Bay highway bridge provides a vertical clearance approximately 19 feet above mean high water when in the closed-to-navigation position. The Lewis and Clark River highway bridge provides a vertical clearance of 17 feet above mean high water when in the closed-to-navigation position.

The Coast Guard will also inform the users of the waterway through our Local and Broadcast Notices to Mariners of the change in operating schedule for the subject bridge so that vessel operators can arrange their transits to minimize any impact caused by the temporary test deviation. Youngs Bay and the Lewis and Clark River do not have an immediate alternate route for vessels to pass through the subject bridges. The subject bridges will be not be able to open for emergencies.

In accordance with 33 CFR 117.35(e), the drawbridges must return to their regular operating schedule immediately at the end of the effective period of this temporary deviation. This deviation from the operating regulations is authorized under 33 CFR 117.35.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacynotice.

Documents mentioned in this notice as being available in the docket and all public comments, will be in our online docket at http://www.regulations.gov, and can be viewed by following that website's instructions. Additionally, if you go to the online docket and sign up for email alerts, you will be notified when comments are posted or a final rule is published.

Dated: February 27, 2018.
Steven M. Fischer,
Bridge Administrator, Thirteenth Coast Guard District.

[FR Doc. 2018-04436 Filed 3-5-18; 8:45 am]

BILLING CODE 9110-04-P